DEPARTMENT OF TRANSPORTATION

National Highway Traffic Safety Administration

[U.S. DOT Docket Number NHTSA-2011-0084]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Written comments should be submitted by August 23, 2011.

ADDRESSES: You may submit comments [identified by Docket No. DOT-NHTSA-20XX-XXXX] through one of the following methods:

• Federal eRulemaking Portal: http://www.regulations.gov. Follow the online instructions for submitting comments.

• Mail or Hand Delivery: Docket Management Facility, U.S. Department of Transportation, 1200 New Jersey Avenue, SE., West Building, Room W12-140, Washington, DC 20590, between 9 a.m. and 5 p.m., Monday through Friday, except on Federal holidays. Telephone 1-800-647-5527.

• Fax 202-493-2251.

FOR FURTHER INFORMATION CONTACT: Walter Culbreath, NHTSA, 1200 New Jersey Avenue, SE., W51-204, NPO-400, Washington, DC 20590. Mr. Culbreath's telephone number is (202) 366-1566. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

(1) Title: Consumer Compliant/Recall Audit Information

OMB Control Number: 2127-0008.

Affected Public: Individuals and households.

Abstract: Chapter 301 of Title 49 of the United States Code, the Secretary of Transportation is authorized to require manufacturers of motor vehicles and items of motor vehicle equipment to conduct owner notification and remedy, i.e., a recall campaign, when it has been determined that a safety defect exists in the performance, construction, components, or materials in motor vehicles and motor vehicle equipment. To make this determination, the National Highway Traffic Safety Administration (NHTSA) solicits information from vehicle owners which is used to identify and evaluate possible safety-related defects and provide the necessary evidence of the existence of such a defect. Under the Authority of Chapter 301 of Title 49 of the United States Code, the Secretary of Transportation is authorized to require manufacturers of motor vehicle and motor vehicle equipment which do not comply with the applicable motor vehicle safety standards or contains a defect that relates to motor vehicle safety to notify each owner that their vehicle contains a safety defect or noncompliance. Also, the manufacturer of each such motor vehicle item of replacement equipment presented for remedy pursuant to such notification shall cause such defect or noncompliance to be remedied without charge. In the case of a motor vehicle presented for remedy pursuant to such notification, the manufacturer shall cause the vehicle remedied by whichever of the following means he elects: (1) By repairing such vehicle; (2) by replacing such motor vehicle without charge; or (3) by refunding the purchase price less depreciation. To ensure these objectives are being met, NHTSA audits recalls conducted by manufacturer. These audits are performed on a randomly selected number of vehicle owners for verification and validation purposes.

Estimated Annual Burden: 36,380 hours.

Estimated Number of Respondents: 239,000.

(2) Title: Replaceable Light Source Dimensional Information Collection, 49 CFR Part 564

OMB Number: 2127-0563.

Type of Request: Extension of a currently approved collection.

Affected Public: Business or other for profit organizations.

Abstract: The information to be collected is in response to 49 CFR part 564, “Replaceable Light Source Dimensional Information.” Persons desiring to use newly designed replaceable headlamp light sources are required to submit interchangeability and performance specifications to the agency. After a short agency review to assure completeness, the information is placed in a public docket for use by any person who would desire to manufacture headlamp light sources for highway motor vehicles. In Federal Motor Vehicle Safety Standard No. 108, Lamps, reflective devices and associated equipment,” Part 564 submission are referenced as being the source of information regarding the performance and interchangeability information for legal headlamp light sources, whether original equipment or replacement equipment. Thus, the submitted information about headlamp light sources becomes the basis for certification of compliance with safety standards.

Estimated Total Annual Burden: 28.

Estimated Number of Respondents: 7.

(3) Title: Compliance Labeling of Retroreflective Materials Heavy Trailer Conspicuity

OMB Number: 2127-0569.

Type of Request: Extension of a currently approved collection.

Affected Public: Business or other for profit organizations.

Abstract: Federal Motor Vehicle Safety Standard No. 108, “Lamps Reflective Devices, and Associated Equipment,” specifies requirements for vehicle lighting for the purposes of reducing traffic accidents and their tragic results by providing adequate roadway illumination, improved vehicle conspicuity, appropriate information transmission through signal lamps, in both day, night, and other conditions of reduced visibility. For certifications and identification purposes, the Standard requires the permanent marking of the letters “DOT-C2,” DOT-C3”, or DOT -C4' at least 3mm high at regular intervals on retroreflective sheeting material having adequate performance to provide effective trailer conspicuity.

The manufacturers of new tractors and trailers are required to certify that their products are equipped with retroreflective material complying with the requirements of the standard. The Federal Highway Administration (FHWA) Office of Motor Carrier Safety enforces this and other standards through roadside inspections of trucks. There is no practical field test for the performance requirements, and labeling is the only objectives way of distinguishing trailer conspicuity grade material from lower performance material. Without labeling, FHWA will not be able to enforce the performance requirements of the standard and the compliance testing of new tractors and trailers will be complicated. Labeling is also important to small trailer manufactures because it may help them to certify compliance. Because wider stripes or material of lower brightness also can provide the minimum safety performance, the marking system serves the additional role of identifying the minimum stripe width required for retroreflective brightness of the particular material. Since the differences between the brightness grades of suitable retroreflective conspicuity material is not obvious from inspection, the marking system is necessary for tractor and trailer manufacturers and repair shops to assure compliance and for FHWA to inspect tractors and trailers in use. Permanent labeling is used to identify retroreflective material having the minimum properties required for effective conspicuity of trailers at night. The information enables the FHWA to make compliance inspections, and it aids tractor and trailer owners and repairs shops in choosing the correct repair materials for damaged tractors and trailers. It also aids smaller trailer manufacturers in certifying compliance of their products.

The FHWA will not be able to determine whether trailers are properly equipped during roadside inspections without labeling. The use of cheaper and more common reflective materials, which are ineffective for the application, would be expected in repairs without the labeling requirement.

Estimated Total Annual Burden: 1.

Estimated Number of Respondents: 3.

(4) Title: 49 CFR Part 576, Record Retention

OMB Number: 2127-0042.

Type of Request: Extension of a currently approved information collection.

Abstract: Under 49 U.S.C. Section 30166(e), NHTSA reasonably may require a manufacturer of a motor vehicle or motor vehicle equipment to keep records, and a manufacturer, distributor, or dealer to make reports, to enable (NHTSA) to decide whether the manufacturer, distributor or dealer has complied or is complying with this chapter or a regulation prescribed under this chapter.

49 U.S.C. 30118(c) requires manufacturers to notify NHTSA and owners, purchasers, and dealers if the manufacturer (1) learn that any vehicle or equipment manufactured by it contains a defect and decides in good faith that the defect relates to motor vehicle safety, or (2) decides in good faith that the vehicle or equipment does not comply with an applicable Federal motor vehicle safety standard. The only way for the agency to decide if and when a manufacturer learned of a safety-related defect or decided in good faith that some products did not comply with an applicable Federal motor vehicle safety standard is for the agency to have access to the information available to the manufacturer.

Affected Public: Business or other-for-profit, individuals or households.

Estimated Total Annual Burden: 40,000.

Estimated Number of Respondents: 1020.

(5) Title: Phase-in Production Reporting Requirements for Electronic Stability Control System (ESC)

OMB Number: 2127-0651.

Type of Request: Extension of a currently approved information collection.

Abstract: Manufacturers of vehicles under 10,000 lbs GVWR are required to report what percent of their vehicles are equipped with ESC during each of a 3-year phase-in of FMVSS No. 126. As part of a comprehensive plan for reducing the serious risk of rollover crashes and the risk of death and serious injury in those crashes, NHTSA is proposing to establish a new Federal motor vehicle safety standard, FMVSS No. 126, to require electronic stability control (ESC) systems on passenger cars, multipurpose vehicles, trucks and buses with a gross vehicle weight rating of 4,536 Kg (10,000 pounds) or less. Based on its crash data studies, NHTSA estimates that the installation of ESC will reduce single vehicle crashes of passenger cars by 34% and single vehicle crashes of sport utility vehicles (SUVs) by 59% with a much greater reduction of rollover crashes.

Affected Public: Private Sector.

Estimated Total Annual Burden: 42.

Estimated Number of Respondents: 21.

(6) Title: Racial Profiling, State Traffic Data, and Child Booster Seat Grant Program

OMB Number: 2127-0653.

Type of Request: Extension of a currently approved information collection

Abstract: The Safe, Accountable, Flexible, Efficient Transportation Equity Act: A Legacy for Users (SAFETEA-LU), Public Law 109-59, authorizes several grant programs covering fiscal years (FY) 2006-2009, to be administered by the National Highway Traffic Safety Administration (NHTSA). This information collection supports the Department's Strategic goal of safety by reducing the number of deaths and severity of injuries as a result of motor vehicle accidents. Section 1906 authorizes a grant program for States that enact and enforce a law that prohibits the use of racial profiling in the enforcement of traffic laws on Federal-aid highways. Section 2006 authorizes a grant program to support the development and implementation of State traffic safety information systems. Section 2011 authorizes a grant program for child safety seats and child booster seats.

Affected Public: State, Local, and Tribal Governments.

Estimated Total Annual Burden: 5130.

Estimated Number of Respondents: 57.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: June 21, 2011.
Dan Pitton,
Director; Office of Mission, Architect, and Planning.

[FR Doc. 2011-15843 Filed 6-23-11; 8:45 am]

BILLING CODE 4910-59-P